Title 3—

The President

Proclamation 8463 of December 4, 2009

National Pearl Harbor Remembrance Day, 2009

By the President of the United States of America

A Proclamation

President Franklin D. Roosevelt declared December 7, 1941, a “date which will live in infamy.” With over 3,500 Americans killed or wounded, the surprise attack by the Imperial Japanese on Pearl Harbor was an attempt to break the American will and destroy our Pacific Fleet. They succeeded in doing neither. On National Pearl Harbor Remembrance Day, we pay tribute to the brave men and women who made the ultimate sacrifice for our country, and we honor all those who selflessly served our Nation at home and abroad during World War II.

On a tranquil Sunday morning, as war raged around the globe, the attack on Pearl Harbor effectively ended American isolation—thrusting our Nation into action. Japanese airplanes had launched an unprovoked assault on our military with immense firepower, and our service members valiantly answered the call. They defended their positions, fought back against the attackers, and cared for the wounded. In that darkest hour, men and women who had considered themselves ordinary found within themselves the ability to do something extraordinary. And in the months and years that followed, Americans all across the country would respond to Pearl Harbor with firm resolve, many joining our Armed Forces to defend our shores and our freedom.

This courage is not uncommon in the story of America—a story of heroes whose sacrifice and valor speak to their love of comrades and country; and whose goodness guides our quest for lasting peace. Today, and every day, we draw strength from the moment when the best among us defended an island and a Nation from the onslaught of tyranny, and forever altered the course of our history.

The Congress, by Public Law 103-308, as amended, has designated December 7 of each year as “National Pearl Harbor Remembrance Day.”

NOW, THEREFORE, I, BARACK OBAMA, President of the United States of America, do hereby proclaim Monday, December 7, 2009, as National Pearl Harbor Remembrance Day. I encourage all Americans to observe this solemn day of remembrance with appropriate ceremonies and activities. I urge all Federal agencies and interested organizations, groups, and individuals to fly the flag of the United States at half-staff this December 7 in honor of those American patriots who died as a result of their service at Pearl Harbor.

IN WITNESS WHEREOF, I have hereunto set my hand this fourth day of December, in the year of our Lord two thousand nine, and of the Independence of the United States of America the two hundred and thirty-fourth.

[FR Doc. E9-29515

Filed 12-8-09; 11:15 am]

Billing code 3195-W0-P